DEPARTMENT OF ENERGY

Office of Energy Efficiency and Renewable Energy

[Case No. CAC-033]

Energy Conservation Program for Certain Industrial Equipment: Publication of the Petition for Waiver From Fujitsu General Limited and Granting of the Interim Waiver From the Department of Energy Commercial Package Air Conditioner and Heat Pump Test Procedures

AGENCY: Office of Energy Efficiency and Renewable Energy, Department of Energy.

ACTION: Notice of petition for waiver, granting of application for interim waiver, and request for comments.

SUMMARY: This notice announces receipt of and publishes a petition for waiver from Fujitsu General Limited (Fujitsu). The petition for waiver (hereafter “petition”) requests a waiver from the U.S. Department of Energy (DOE) test procedure applicable to commercial package air-source central air conditioners and heat pumps. The petition is specific to the Fujitsu variable capacity AIRSTAGE V-II (commercial) multi-split heat pumps. Through this document, DOE: (1) Solicits comments, data, and information with respect to the Fujitsu petition; and (2) announces the grant of an interim waiver to Fujitsu from the existing DOE test procedure for the subject commercial multi-split air conditioners and heat pumps.

DATES: DOE will accept comments, data, and information with respect to the Fujitsu petition until, but no later than July 5, 2011.

ADDRESSES: You may submit comments, identified by case number “CAC-033,” by any of the following methods:

• Federal eRulemaking Portal: http://www.regulations.gov. Follow the instructions for submitting comments.

• E-mail: AS_Waiver_Requests@ee.doe.gov. Include the case number [CAC-033] in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Docket: For access to the docket to review the background documents relevant to this matter, you may visit the U.S. Department of Energy, 950 L'Enfant Plaza, SW. (Resource Room of the Building Technologies Program), Washington, DC 20024; (202) 586-2945, between 9 a.m. and 4 p.m., Monday through Friday, except on Federal holidays. Available documents include the following items: (1) This notice; (2) public comments received; (3) the petition for waiver and application for interim waiver; and (4) prior DOE rulemakings and waivers regarding similar central air conditioning and heat pump equipment. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: AS_Waiver_Requests@ee.doe.gov.

Ms. Elizabeth Kohl, U.S. Department of Energy, Office of the General Counsel, Mail Stop GC-71, Forrestal Building, 1000 Independence Avenue, SW., Washington, DC 20585-0103. Telephone: (202) 586-7796. E-mail: Elizabeth.Kohl@hq.doe.gov.

SUPPLEMENTARY INFORMATION:

I. Background and Authority

Title III of the Energy Policy and Conservation Act (EPCA) sets forth a variety of provisions concerning energy efficiency, including Part B of Title III, which establishes the “Energy Conservation Program for Consumer Products Other Than Automobiles.” (42 U.S.C. 6291-6309). Part C of Title III provides for a similar energy efficiency program titled “Certain Industrial Equipment,” which includes commercial air conditioning equipment, package boilers, water heaters, and other types of commercial equipment.¹ (42 U.S.C. 6311-6317).

¹ For editorial reasons, upon codification in the U.S. Code, Parts B and C were re-designated as Parts A and A-1, respectively.

Today's notice involves commercial equipment under Part C. Part C specifically includes definitions (42 U.S.C. 6311), test procedures (42 U.S.C. 6314), labeling provisions (42 U.S.C. 6315), energy conservation standards (42 U.S.C. 6313), and the authority to require information and reports from manufacturers (42 U.S.C. 6316). With respect to test procedures, Part C authorizes the Secretary of Energy (the Secretary) to prescribe test procedures that are reasonably designed to produce results that measure energy efficiency, energy use, and estimated annual operating costs, and that are not unduly burdensome to conduct. (42 U.S.C. 6314(a)(2)).

For commercial package air-conditioning and heating equipment, EPCA provides that “the test procedures shall be those generally accepted industry testing procedures or rating procedures developed or recognized by the Air-Conditioning and Refrigeration Institute [ARI] or by the American Society of Heating, Refrigerating and Air-Conditioning Engineers [ASHRAE], as referenced in ASHRAE/IES Standard 90.1 and in effect on June 30, 1992.” (42 U.S.C. 6314(a)(4)(A)). Under 42 U.S.C. 6314(a)(4)(B), the statute further directs the Secretary to amend the test procedure for a covered commercial product if the industry test procedure is amended, unless the Secretary determines, by rule and based on clear and convincing evidence, that such a modified test procedure does not meet the statutory criteria set forth in 42 U.S.C. 6314(a)(2) and (3).

On December 8, 2006, DOE published a final rule adopting test procedures for commercial package air-conditioning and heating equipment, effective January 8, 2007. 71 FR 71340. Table 1 to Title 10 of the Code of Federal Regulations (10 CFR) 431.96 directs manufacturers of commercial package air conditioning and heating equipment to use the appropriate procedure when measuring energy efficiency of those products. The cooling capacities of Fujitsu's commercial AIRSTAGE V-II multi-split heat pump products at issue in the waiver petition filed by Fujitsu range from 72,000 Btu/h to 288,000 Btu/h. All of these products are covered by ARI Standard 340/360-2004, which includes products with capacities greater than 65,000 Btu/hour.

DOE's regulations for covered products permit a person to seek a waiver from the test procedure requirements for covered commercial equipment if at least one of the following conditions is met: (1) The petitioner's basic model contains one or more design characteristics that prevent testing according to the prescribed test procedures; or (2) the prescribed test procedures may evaluate the basic model in a manner so unrepresentative of its true energy consumption as to provide materially inaccurate comparative data. 10 CFR 431.401(a)(1). Petitioners must include in their petition any alternate test procedures known to the petitioner to evaluate the basic model in a manner representative of its energy consumption. 10 CFR 431.401(b)(1)(iii). The Assistant Secretary for Energy Efficiency and Renewable Energy (Assistant Secretary) may grant a waiver subject to conditions, including adherence to alternate test procedures. 10 CFR 431.401(f)(4). Waivers remain in effect pursuant to the provisions of 10 CFR 431.401(g).

The waiver process also permits parties submitting a petition for waiver to file an application for interim waiver of the applicable test procedure requirements. 10 CFR 431.401(a)(2). The Assistant Secretary will grant an interim waiver request if it is determined that the applicant will experience economic hardship if the application for interim waiver is denied, if it appears likely that the petition for waiver will be granted, and/or the Assistant Secretary determines that it would be desirable for public policy reasons to grant immediate relief pending a determination on the petition for waiver. 10 CFR 431.401(e)(3). An interim waiver remains in effect for 180 days or until DOE issues its determination on the petition for waiver, whichever occurs first. It may be extended by DOE for an additional 180 days. 10 CFR 431.401(e)(4).

II. Petition for Waiver

On April 25, 2011, Fujitsu filed a petition for waiver from the test procedures at 10 CFR 431.96 applicable to commercial package air source central air conditioners and heat pumps, as well as an application for interim waiver. The capacities of the Fujitsu AIRSTAGE V-II multi-split heat pumps range from 72,000Btu/hto 288,000Btu/h. The applicable test procedure is ARI 340/360-2004. Manufacturers are directed to use this test procedure pursuant to Table 1 of 10 CFR 431.96.

Fujitsu seeks a waiver from the applicable test procedures under 10 CFR 431.96 on the grounds that its AIRSTAGE V-II multi-split heat pumps contain design characteristics that prevent testing according to the current DOE test procedures. Specifically, Fujitsu asserts that the two primary factors that prevent testing of its AIRSTAGE V-II multi-split variable speed products are the same factors stated in the waivers that DOE granted to Mitsubishi Electric & Electronics USA, Inc. (Mitsubishi) and other manufacturers for similar lines of commercial multi-split air-conditioning systems:

• Testing laboratories cannot test products with so many indoor units; and

• There are too many possible combinations of indoor and outdoor units to test.

See, e.g., 72 FR 17528 (April 9, 2007) (Mitsubishi); 76 FR 19069 (April 6, 2011) (Daikin); 76 FR 19078 (April 6, 2011) (Mitsubishi).

The AIRSTAGE V-II systems have operational characteristics similar to the commercial multi-split products manufactured by Mitsubishi, Samsung, Fujitsu, Sanyo and Daikin. As indicated above, DOE has already granted waivers for these products. The AIRSTAGE V-II system consists of multiple indoor units connected to one or multiple outdoor units. They have the capability of connecting the outdoor unit with up to 45 indoor units selected from 10 chassis types with 43 basic models, giving these systems more than a million installation combinations. Consequently, Fujitsu requested that DOE grant a waiver from the applicable test procedures for its AIRSTAGE V-II product designs.

III. Application for Interim Waiver

On April 25, 2011, Fujitsualso submitted an application for an interim waiver from the test procedures at 10 CFR 431.96 for its AIRSTAGE V-II equipment. DOE determined that Fujitsu's application for interim waiver does not provide sufficient market, equipment price, shipments, and other manufacturer impact information to permit DOE to evaluate the economic hardship Fujitsu might experience absent a favorable determination on its application for an interim waiver. DOE understands, however, that if it did not issue an interim waiver, Fujitsu's products would not be tested and rated for energy consumption in the same manner as equivalent products for which DOE previously granted waivers. Furthermore, DOE has determined that it appears likely that Fujitsu's petition for waiver will be granted and that is desirable for public policy reasons to grant Fujitsu immediate relief pending a determination on the petition for waiver. DOE believes that it is likely Fujitsu's petition for waiver for the new AIRSTAGE V-II multi-split models will be granted because, as noted above, DOE has previously granted a number of waivers for similar product designs. The two principal reasons supporting the grant of the previous waivers also apply to Fujitsu's AIRSTAGE V-II products: (1) Test laboratories cannot test products with so many indoor units; and (2) it is impractical to test so many combinations of indoor units with each outdoor unit. In addition, DOE believes that similar products should be tested and rated for energy consumption on a comparable basis. For these same reasons, DOE also determined that it is desirable for public policy reasons to grant immediate relief pending a determination on the petition for waiver.

Therefore, it is ordered that:

The application for interim waiver filed by Fujitsu is hereby granted for Fujitsu's AIRSTAGE V-II multi-split heat pumps, subject to the specifications and conditions below.

1. Fujitsu shall not be required to test or rate its AIRSTAGE V-II commercial multi-split products on the basis of the existing test procedures under 10 CFR 431.96, which incorporates by reference ARI 340/360-2004.

2. Fujitsu shall be required to test and rate its AIRSTAGE V-II commercial multi-split products according to the alternate test procedure as set forth in section IV(3), “Alternate test procedure.”

The interim waiver applies to the following basic model groups:

Outdoor units, 208/230Vac, 3-phase, 60Hz, Air-Source Heat pump models:

Stand alone models:

AOUA72RLBV and AOUA96RLBV with nominal cooling capacities of 72,000 and 96,000 Btu/hr respectively.

Add-on system models | (Module models)
AOUA144RLBVG | (AOUA72RLBV + AOUA72RLBV)
AOUA168RLBVG | (AOUA72RLBV + AOUA96RLBV)
AOUA192RLBVG | (AOUA96RLBV + AOUA96RLBV)
AOUA216RLBVG | (AOUA72RLBV + AOUA72RLBV + AOUA72RLBV)
AOUA240RLBVG | (AOUA72RLBV + AOUA72RLBV + AOUA96RLBV)
AOUA288RLBVG | (AOUA96RLBV + AOUA96RLBV + AOUA96RLBV)

With nominal cooling capacities of 144,000, 168,000, 192,000, 216,000, 240,000 and 288,000 Btu/hr respectively.

Compatible indoor units for the above listed outdoor units:

Compact cassette:

AUUA7RLAV, AUUA9RLAV, AUUA12RLAV, AUUA14RLAV, AUUA18RLAV and AUUA24RLAV with nominal cooling capacities of 7,500, 9,500, 12,000, 14,000, 18,000 and 24,000 Btu/hr respectively.

Cassette:

AUUB30RLAV and AUUB36RLAV with nominal cooling capacities of 30,000 and 36,000 Btu/hr respectively.

Slim cassette:

AUUB18RLAV and AUUB24RLAV with nominal cooling capacities of 18,000 and 24,000 Btu/hr respectively.

Compact wall mounted:

ASUA7RLAV, ASUE7RLAV, ASUA9RLAV, ASUE9RLAV, ASUA12RLAV, ASUE12RLAV, ASUA14RLAV and ASUE14RLAV with nominal cooling capacities of 7,500, 7,500, 9,500, 9,500, 12,000, 12,000, 14,000 and 14,000 Btu/hr respectively.

Wall mounted:

ASUB18RLAV and ASUB24RLAV with nominal cooling capacities of 18,000 and 24,000 Btu/hr respectively.

Floor/Ceiling (Universal):

ABUA12RLAV, ABUA14RLAV, ABUA18RLAV and ABUA24RLAV with nominal cooling capacities of 12,000, 14,000, 18,000, 24,000 Btu/hr respectively.

Ceiling:

ABUA30RLAV and ABUA36RLAV with nominal cooling capacities of 30,000 and 36,000 Btu/hr respectively.

Slim duct:

ARUL7RLAV, ARUL9RLAV, ARUL12RLAV, ARUL14RLAV and ARUL18RLAV with nominal cooling capacities of 7,500, 9,500, 12,000, 14,000 and 18,000 Btu/hr respectively.

Middle static pressure duct::

ARUM24RLAV, ARUM30RLAV, ARUM36RLAV, ARUM48RLAV and ARUM54RLAV with nominal cooling capacities of 24,000, 30,000, 36,000, 48,000 and 54,000 Btu/hr respectively.

High static pressure duct:

ARUH36RLAV, ARUH48RLAV, ARUH54RLAV, ARUH60RLAV, ARUH72RLAV, ARUH90RLAV and ARUH96RLAV with nominal cooling capacities of 36,000, 48,000, 60,000, 72,000, 90,000 and 96,000 Btu/hr respectively.

This interim waiver is issued on the condition that the statements, representations, and documents provided by the petitioner are valid. DOE may revoke or modify this interim waiver at any time if it determines the factual basis underlying the petition for waiver is incorrect or the results from the alternate test procedure are unrepresentative of the basic models' true energy consumption characteristics.

DOE makes decisions on waivers and interim waivers for only those models specifically set out in the petition, not future models that may be manufactured by the petitioner. Fujitsu may submit a new or amended petition for waiver and request for grant of interim waiver, as appropriate, for additional models of commercial package air conditioners and heat pumps for which it seeks a waiver from the DOE test procedure. In addition, DOE notes that grant of an interim waiver or waiver does not release a petitioner from the certification requirements set forth at 10 CFR Part 429.

IV. Alternate Test Procedure

In responses to two petitions for waiver from Mitsubishi, DOE specified an alternate test procedure to provide a basis from which Mitsubishi could test and make valid energy efficiency representations for its R410A CITY MULTI products, as well as for its R22 multi-split products. Alternate test procedures related to the Mitsubishi petitions were published in the Federal Register on April 9, 2007. See 72 FR 17528 and 72 FR 17533. For reasons similar to those published in these prior notices, DOE believes that an alternate test procedure is appropriate in this instance.

DOE understands that existing testing facilities have limited ability to test multiple indoor units simultaneously. This limitation makes it impractical for manufacturers to test the large number of possible combinations of indoor and outdoor units for some variable refrigerant flow zoned systems. We further note that after DOE granted a waiver for Mitsubishi's R22 multi-split products, ARI formed a committee to discuss testing issues and to develop atesting protocol for variable refrigerant flow systems. The committee has developed a test procedure which has been adopted by AHRI—“ANSI/AHRI 1230—2010: Performance Rating of Variable Refrigerant Flow (VRF) Multi-Split Air-Conditioning and Heat Pump Equipment” and incorporated into ASHRAE 90.1—2010. The commercial multisplit waivers that DOE has granted to Mitsubishi and several other manufacturers and the alternate test procedure set forth in those waivers are consistent with ANSI/AHRI 1230-2010. The waivers use a definition of “tested combination” that is substantially the same as the definition in ANSI/AHRI 1230-2010. As a result, DOE is considering prescribing ANSI/AHRI 1230-2010 in the subsequent decision and order as the alternate test procedure for this Fujitsu waiver. For the interim waiver, however, DOE will continue to require the use of the alternate test procedure prescribed in the past multisplit waivers.

Therefore, as a condition forgranting this interim waiver to Fujitsu, DOE is including an alternate test procedure similar to those granted to Mitsubishi for its R22 and R410A products. This alternate test procedure will allow Fujitsu to test and make energy efficiency representations for its AIRSTAGE V-II products. DOE has applied a similar alternate test procedure to other waivers for similar residential and commercial central air conditioners and heat pumps manufactured by a number of other manufacturers.

The alternate test procedure developed in conjunction with the Mitsubishi waiver permits Fujitsu to designate a “tested combination” for each model of outdoor unit. The indoor units designated as part of the tested combination must meet specific requirements. For example, the tested combination must have from two to eight indoor units so that it can be tested in available test facilities. (The “tested combination” was originally defined to consist of one outdoor unit matched with between 2 and 5 indoor units. The maximum number of indoor units in a tested combination is increased in this instance from 5 to 8 to account for the fact that these larger-capacity products can accommodate a greater number of indoor units.) The tested combination must be tested according to the applicable DOE test procedure, as modified by the provisions of the alternate test procedure as set forth below. The alternate test procedure also allows manufacturers of such products to make valid and consistent representations of energy efficiency for their air-conditioning and heat pump products.

DOE is including the following waiver language in the interim waiver for Fujitsu's AIRSTAGE V-II commercial multi-split water-source heat pump models:

1. Fujitsu shall not be required to test or rate its AIRSTAGE V-II commercial multi-split heat pumps according to the existing test procedures under Table 1 of 10 CFR 431.96, which incorporates by reference the Air-Conditioning and Refrigeration Institute (ARI) Standard 340/360-2004. Fujitsu will be required, however, to test and rate its AIRSTAGE V-II commercial multi-split heat pumps covered in this waiver according to the alternate test procedure as set forth below:

2. Alternate test procedure.

(A) Fujitsu shall be required to test the products listed above according to the test procedures for central air conditioners and heat pumps prescribed by DOE at 10 CFR 431.96, except that Fujitsu shall test a tested combination selected in accordance with the provisions of subparagraph (B) of this paragraph. For every other system combination using the same outdoor unit as the tested combination, Fujitsu shall make representations concerning the AIRSTAGE V-II products covered in this waiver according to the provisions of subparagraph (C) below.

(B) Tested combination. The term tested combination means a sample basic model comprised of units that are production units, or are representative of production units, of the basic model being tested. For the purposes of this waiver, the tested combination shall have the following features:

(1) The basic model of a variable refrigerant flow system used as a tested combination shall consist of one outdoor unit, with one or more compressors, that is matched with between two and five indoor units. (For systems with nominal cooling capacities greater than 150,000 Btu/h, as many as eight indoor units may be used, toenable testing of non-ducted indoor unit combinations). For multi-split systems, each of these indoor units shall be designed for individual operation.

(2) The indoor units shall—

(i) Represent the highest sales model family or another indoor model family if the highest sales model family does not provide sufficient capacity (see ii);

(ii) Together, have a nominal cooling capacity that is between 95% and 105% of the nominal cooling capacity of the outdoor unit;

(iii) Not, individually, have a nominal cooling capacity that is greater than 50% of the nominal cooling capacity of the outdoor unit;

(iv) Operate at fan speeds that are consistent with the manufacturer's specifications; and

(v) Be subject to the same minimum external static pressure requirement while being configurable to produce the same static pressure at the exit of each outlet plenum when manifolded as per section 2.4.1 of 10 CFR Part 430, subpart B, appendix M.

3. Representations. In making representations about the energy efficiency of its AIRSTAGE V-II variable capacity multi-split heat pump products for compliance, marketing, or other purposes, Fujitsu must fairly disclose the results of testing under the DOE test procedurein a manner consistent with the provisions outlined below:

(1) For AIRSTAGE V-II combinations tested in accordance with this alternate test procedure, Fujitsumay make representations based on these test results.

(2) For AIRSTAGE V-II combinations that are not tested, Fujitsumay make representations of non-tested combinations at the same energy efficiency level as the tested combination. The outdoor unitmust be the one used in the tested combination. The representations may also be determined by an Alternative Rating Method approved by DOE.

V. Summary and Request for Comments

Through today's notice, DOE announces receipt of the Fujitsu petition for waiver from the test procedures applicable to Fujitsu's AIRSTAGE V-II commercial multi-split heat pump products. For the reasons articulated above, DOE also grants Fujitsu an interim waiver from those procedures. As part of this notice, DOE publishes Fujitsu's petition for waiver in its entirety. The petition contains no confidential information. Furthermore, today's notice includes an alternate test procedure that Fujitsu is required to follow as a condition of its interim waiver.In this alternate test procedure, DOE is defining a tested combination that Fujitsu could use in lieu of testing all retail combinations of its AIRSTAGE V-II multi-split heat pump products.

DOE is interested in receiving comments on the issues addressed in this notice. Pursuant to 10 CFR 431.401(d), any person submitting written comments must also send a copy of such comments to the petitioner, pursuant to 10 CFR 431.401(d). The contact information for the petitioner is: Masami Kato, Manager, Engineering Attestation Administration Department, Air Conditioner Administration Division, FUJITSU General Limited, 1116 Suenaga, Takatsu-ku, Kawasaki 213-8502, Japan. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies: One copy of the document including all the information believed to be confidential, and one copy of the document with the information believed to be confidential deleted. DOE will make its own determination about the confidential status of the information and treat it according to its determination.

Issued in Washington, DC, on May 26, 2011.
Kathleen Hogan,
Deputy Assistant Secretary for Energy Efficiency, Office of Technology Development, Energy Efficiency and Renewable Energy.

April 25, 2011

The Honorable Dr. Henry Kelly

Acting Assistant Secretary and Principal Deputy Assistant Secretary for the Office of Energy Efficiency and Renewable Energy

U.S. Department of Energy 1000 Independence Ave, SW., Washington, DC 20585-0121

Re: Petition for Waiver and Application for Interim Waiver of Test Procedure

Dear Assistant Secretary Kelly:

Pursuant to 10 CFR 431. 401(a)(1), Fujitsu General Limited (FUJITSU) established in Japan, respectfully submits Petition for Waiver from test procedure at 10 CFR 431.96, i.e., ARI Standard 340/360-2004, applicable to commercial package air source central air conditioners and heat pumps for the FUJITSU's AIRSTAGE V-IIsystem, Variable Refrigerant Flow (VRF) Multi-Split Systems, because the basic model contains design characteristics which prevent testing of the basic model according to the prescribed test procedures.

FUJITSU also submits an application for interim waiver of the applicable test procedure for the same systems pursuant to 10 CFR 431. 401(a)(2).

1. Background

On June 14, 2004, FUJITSU submitted a Petition for Waiver from the test procedures applicable to its AIRSTAGE product line of residential and light commercial products because the design characteristics of these models prevented testing according to the currently prescribed test procedures.

Specifically, these models can connect an outdoor unit to many more indoor units than the test laboratories can physically test at one time, and it is not practical to test all of the potentially available combinations.

After consideration of all the materials submitted by FUJITSU, DOE classified its AIRSTAGE products as “consumer products” because:

• AIRSTAGE product line at issue involved single-phase equipment for both residential and light commercial use and there was no DOE test procedure for single-phase, small commercial package air-conditioning and heating equipment, no waiver was required for FUJITSU's single-phase commercial AIRSTAGE products.

• Nonetheless, a significant extent, they were for personal use or consumption by individuals (given their frequent residential applications). (42 U.S.C. 6291(1)(B)) Thus, the FUJITSU's AIRSTAGE product line required a waiver from DOE's test procedure for residential central air conditioners and heat pumps, under 10 CFR part 430, subpart B, Appendix M.

On December 17, 2007, DOE granted the requested waiver because there was the problem of being physically unable to test most of the complete systems in a laboratory. The waiver included an alternate test procedure pursuant to which FUJITSU must test and rate the products covered by the waiver. 72 FR 14858 (December17, 2007).

Today, FUJITSUsubmits a Petition for Waiver from the test procedures applicable to its AIRSTAGE product line of commercial (3-phase) VRF multi-split “AIRSTAGE V-II”.

2. The Design Characteristics

FUJITSU's AIRSTAGE V-II system has the following design characteristics and applications:

• Consists of multi-split, multi-zone units utilizing one ormultiple outdoor units (Add-on system) that have the capability of connecting the outdoor unit with up to 45 indoor units selected from 10 chassis types with 43 basic models (listed in item 3. Identification of the particular basic models for which a waiver is requested), giving these systems more than million installation combinations.

• The compressor is capable of reducing its operating capacity to as little as 10% of its rated capacity. Zone diversity enables AIRSTAGE V-II to have a total connected indoor unit capacity of up to 150% of the capacity of the outdoor unit.

• The operating characteristics allow each indoor unit can be independently controlled and to have a different set temperature and a different mode of operation (i.e. on/off/fan).

• Equip with variable speed indoor and outdoor high efficiency fan motors to precisely control operating pressures and airflow rates.

• Piping connections are made by outdoor unit branch kit, separation tube and/or header. Actual piping length150m maximum allows for application in a wide variety buildings. Height difference between outdoor and indoor units 50m maximum and indoor and indoor units 15m maximum.

• Uses electronically controlled expansion valves to precisely control refrigerant flow, superheat, sub-cooling, pump down functions and even oil flow throughout the system.

3. Identification of the Particular Basic Models for Which a Waiver Is Requested:

We seek a waiver from the test procedures for the following AIRSTAGE V-II basic models;

Outdoor units, 208/230Vac, 3-phase, 60Hz, Air-Source Heat pump models:

Standalone models AOUA72RLBV and AOUA96RLBV with nominal cooling capacities of 72,000 and 96,000 Btu/hr respectively.

Add-on system models | (Module models)
AOUA144RLBVG | (AOUA72RLBV + AOUA72RLBV)
AOUA168RLBVG | (AOUA72RLBV + AOUA96RLBV)
AOUA192RLBVG | (AOUA96RLBV + AOUA96RLBV)
AOUA216RLBVG | (AOUA72RLBV + AOUA72RLBV + AOUA72RLBV)
AOUA240RLBVG | (AOUA72RLBV + AOUA72RLBV + AOUA96RLBV)
AOUA288RLBVG | (AOUA96RLBV + AOUA96RLBV + AOUA96RLBV)

with nominal cooling capacities of 144,000, 168,000, 192,000, 216,000, 240,000 and 288,000 Btu/hr respectively.

Compatible indoor units for the above listed outdoor units:

Compact cassette:

AUUA7RLAV, AUUA9RLAV, AUUA12RLAV, AUUA14RLAV, AUUA18RLAV and AUUA24RLAV with nominal cooling capacities of 7,500, 9,500, 12,000, 14,000, 18,000 and 24,000 Btu/hr respectively.

Cassette:

AUUB30RLAV and AUUB36RLAV with nominal cooling capacities of 30,000 and 36,000 Btu/hr respectively.

Slim cassette:

AUUB18RLAV and AUUB24RLAV with nominal cooling capacities of 18,000 and 24,000 Btu/hr respectively.

Compact wall mounted:

ASUA7RLAV, ASUE7RLAV, ASUA9RLAV, ASUE9RLAV, ASUA12RLAV, ASUE12RLAV, ASUA14RLAV and ASUE14RLAV with nominal cooling capacities of 7,500, 7,500, 9,500, 9,500, 12,000, 12,000, 14,000 and 14,000 Btu/hr respectively.

Wall mounted:

ASUB18RLAV and ASUB24RLAV with nominal cooling capacities of 18,000 and 24,000 Btu/hr respectively.

Floor/Ceiling (Universal):

ABUA12RLAV, ABUA14RLAV, ABUA18RLAV and ABUA24RLAV with nominal cooling capacities of 12,000, 14,000, 18,000, 24,000 Btu/hr respectively.

Ceiling:

ABUA30RLAV and ABUA36RLAV with nominal cooling capacities of 30,000 and 36,000 Btu/hr respectively.

Slim duct:

ARUL7RLAV, ARUL9RLAV, ARUL12RLAV, ARUL14RLAV and ARUL18RLAV with nominal cooling capacities of 7,500, 9,500, 12,000, 14,000 and 18,000 Btu/hr respectively.

Middle staticpressure duct:

ARUM24RLAV, ARUM30RLAV, ARUM36RLAV, ARUM48RLAV and ARUM54RLAV with nominal cooling capacities of 24,000, 30,000, 36,000, 48,000 and 54,000 Btu/hr respectively.

High staticpressure duct:

ARUH36RLAV, ARUH48RLAV, ARUH54RLAV, ARUH60RLAV, ARUH72RLAV, ARUH90RLAV and ARUH96RLAV with nominal cooling capacities of 36,000, 48,000, 60,000, 72,000, 90,000 and 96,000 Btu/hr respectively.

4. Design Characteristics Constituting the Grounds for the Petition

FUJITSU seek a waiver from the applicable test procedures under 10 CFR 431.96 on the grounds that its AIRSTAGE V-II multi-split contain design characteristics that prevent testing according to the current DOE test procedures. Specifically, FUJITSU assert that the two primary factors that prevent testing of its AIRSTAGE V-II products are the same factors stated in the waivers that DOE granted to Mitsubishi Electric & Electronics USA, Inc. (Mitsubishi) and other manufacturers for similar lines of commercial multi-split systems:

• Testing laboratories cannot test products with so many indoor units; and

• There are too many possible combinations of indoor and outdoor units to test.

Mitsubishi (69 FR 52660, August 27, 2004); Mitsubishi (72 FR 17528, April 9,2007); Samsung (72 FR 71387, Dec. 17, 2007); FUJITSU (72 FR 71383, Dec. 17, 2007); Daikin (73 FR 39680, July 10, 2008); Daikin (74 FR 15955, April 8, 2009); Daikin (74 FR 16193, April 9, 2009); Daikin (74 FR 16373, April 10, 2009); Mitsubishi (74 FR 66311, 66315, December 15, 2009); LG (74 FR66330, December 15, 2009); Daikin (75 FR 22581, April 29, 2010); Daikin (75 FR 25224, May 7, 2010) and Sanyo (75 FR 41845, July 19, 2010)

5. The Specific Requirements Sought To Be Waived

FUJITSU seeks a waiver from the test procedures at 10 CFR 431.96 applicable to commercial package air source central air conditioners and heat pumps.

Specially, the applicable test procedure of ARI 340/360-2004 for AIRSTAGE V-II products listed in Item 3. Identification of the particular basic models for which a waiver is requested.

6. Identity of the Manufacturers of All Other Basic Models:

The FUJITSU's AIRSTAGE V-II systems incorporate similar design characteristics and configuration as those as VRF Multi-Split Systems being marketed in the United States by Mitsubishi Electric and Electronics USA Inc., Samsung Air Conditioning, Daikin AC (America), Inc., SANYO North America Corp., LG Electronics U.S.A., Inc. and Carrier Corp.

7. Alternate Test Procedures

FUJITSU requests that DOE adopt ANSI/AHRI Standard 1230-2010, Performance Rating of Variable Refrigerant Flow (VRF) Multi-Split Air-Conditioning and Heat Pump Equipment Standard as an alternate test procedure.

AHRI formed a committee to discuss testing issues and to develop a testing protocol for variable refrigerant flow systems. The committee has developed a test procedure which has been adopted by AHRI—“ANSI/AHRI 1230-2010: Performance Rating of Variable Refrigerant Flow (VRF) Multi-Split Air-Conditioning and Heat Pump Equipment” and incorporated into ANSI/ASHRAE/IES Standard 90.1-2010. In addition, ENERGY STAR has adopted AHRI 1230-2010 as test methods for Light Commercial Heating and Cooling Equipment.

The commercial multi-split waivers that DOE has granted to Mitsubishi and several other manufacturers and the alternate test procedure set forth in those waivers are consistent with ANSI/AHRI 1230—2010.The waivers use a definition of “tested combination” that is substantially the same as the definition in ANSI/AHRI 1230—2010. Thus, DOE is considering prescribing ANSI/AHRI 1230—2010 in the subsequent decision and order as the alternate test procedure for these waivers.

Mitsubishi (76 FR 19078, April 6, 2011), Daikin(76 FR 19069, April 6, 2011) and Carrie (76 FR 19759, April 8, 2011).

8. Application for Interim Waiver

Pursuant to 10 CFR 431. 401(a)(2), FUJITSU also submits an Application for Interim Waiver of the applicable test procedure requirements for the same systems listed in item 3. Identification of the particular basic models for which a waiver is requested. The basis for Application for Interim Waiver is as follows:

FUJITSU believes that it is likely FUJITSU petition for waiver for the AIRSTAGE V-II multi-split heat pump models will be granted because, as noted item 4. Design characteristics constituting the grounds for the petition, DOE has previously granted a number of waivers for similar product designs based on two principal reasons below;

(1) Test laboratories cannot test equipment with so many indoor units; and

(2) It is impractical to test so many combinations of indoor units with each outdoor unit.

FUJITSU would make it clear that delay in receiving a waiver are providing our competitor Mitsubishi Electric and Electronics USA Inc., Samsung Air Conditioning, Daikin AC (America), Inc., SANYO North America Corp., LG Electronics U.S.A., Inc. and Carrier Corp. with an unfair advantage over our entrance into the market place by not offering a uniform waiver and they show preferential treatment and make us competitive disadvantage in marketing.

As FUJITSU'sAIRSTAGE V-II products are quite similar to these Mitsubishi CITY MULTI products and other manufacturers products, there is no particular reason for DOE to hesitate a waiver to our case.

9. Confidential Information

FUJITSU makes no request to DOE regarding the confidential treatment of any information contained in this Petition for Waiver and Application for interim Waiver.

10. Conclusion

FUJITSU respectfully requests DOE to grant its Petition for Waiver and Application for Interim Waiver of the applicable test procedure to FUJITSU's AIRSTAGE V-II multi-split heat pumps.

If we can provide further information, or if it would be helpful to discuss any of this matter further, please contact Mr. Roy Kuczera, Senior Vice President, FUJITSU General America, Inc. 353 Route 46 W., Fairfield, N.J. 07004 U.S.A. Phone (973) 575-0380 or undersigned.

Yours very truly,

Masami Kato,

Manager, Engineering Attestation Administration Department Air Conditioner Administration Division.

FUJITSU General Limited,

1116 Suenaga, Takatsu-ku, Kawasaki 213-8502, Japan, Phone +81(44)861-7638.

[FR Doc. 2011-13659 Filed 6-1-11; 8:45 am]

BILLING CODE 6450-01-P